DEPARTMENT OF JUSTICE

Drug Enforcement Administration

Manufacturer of Controlled Substance; Notice of Application

Pursuant to § 1301.33(a) of Title 21 of the Code of Federal Regulations (CFR), this is notice that on February 26, 2004, Accustandard Inc., 125 Market Street, New Haven, Connecticut 06513, made application by renewal to the Drug Enforcement Administration (DEA) for registration as a bulk manufacturer of the basic classes of controlled substances listed below.

Drug | Schedule
Cathinone (1235) | I
Methcathinone (1237) | I
N-Ethylamphetamine (1475) | I
N,N-Dimethylamphetamine (1480) | I
Fenethylline (1503) | I
Aminorex (1585) | I
4-Methylaminorex (cis isomer) (1590) | I
Gamma hydroxybutyric acid (2010) | I
Methaqualone (2565) | I
Mecloqualone (2572) | I
Alpha-Ethyltryptamine (7249) | I
Ibogaine (7260) | I
Lysergic acid diethylamide (7315) | I
Tetrahydrocannabinols (7370) | I
Mescaline (7381) | I
3,4,5-Trimethoxyamphetamine (7390) | I
4-Bromo-2,5-dimethoxyamphetamine (7391) | I
4-Bromo-2,5-dimethoxyphenethylamine (7392) | I
4-Methyl-2,5-dimethoxyamphetamine (7395)
2,5-Dimethoxyamphetamine (7396) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
Bufotenine (7433) | I
Diethyltryptamine (7434) | I
Dimethyltryptamine (7435) | I
Psilocybin (7437) | I
Psilocyn (7438) | I
N-Ethyl-1-phenylcyclohexylamine (7455) | I
1-(1-Phenylcyclohexyl) pyrrolidine (PCPY) (7458) | I
Thiophene Analog of Phencyclidine (7470) | I
1-(1-(2-Thienyl)Cyclohexyl)Pyrrolidine (7473) | I
N-Ethyl-3-Piperidyl Benzilate (7482) | I
N-Methyl-3-Piperidyl Benzilate (7484) | I
Acetyldihydrocodeine (9051) | I
Benzylmorphine (9052) | I
Codeine-N-Oxide (9053) | I
Cyprenorphine (9054) | I
Desomorphine (9055) | I
Etorphine (except Hydrochloride salt) (9056) | I
Codeine Methylbromide (9070) | I
Dihydromorphine (9145) | I
Difenoxin (9168) | I
Heroin (9200) | I
Hydromorphinol (9301) | I
Methyldesorphine (9302) | I
Methyldihydromorphine (9304) | I
Morphine Methylbromide (9305) | I
Morphine Methylsulfonate (9306) | I
Morphine-N-Oxide (9307) | I
Myrophine (9308) | I
Nicocodeine (9309) | I
Nicomorphine (9312) | I
Normorphine (9313) | I
Pholcodine (9314) | I
Thebacon (9315) | I
Acetorphine (9319) | I
Drotebanol (9335) | I
Acetylmethadol (9601) | I
Allylprodine (9602) | I
Alphacetylmethadol except LAAM (9603) | I
Alphameprodine (9604) | I
Alphamethadol (9605) | I
Benzethidine (9606) | I
Betacetymethadol (9607) | I
Betameprodine (9608) | I
Betamethadol (9609) | I
Betaprodine (9611) | I
Clonitazene (9612) | I
Dextromoramide (9613) | I
Diampromide (9615) | I
Diethylthiambutene (9616) | I
Dimenoxadol (9617) | I
Dimepheptanol (9618) | I
Dimethylthiambutene (9619) | I
Dioxaphetylbutyrate (9621) | I
Dipipanone (9622) | I
Ethylmethylthiambutene (9623) | I
Etonitazene (9624) | I
Etoxeridine (9625) | I
Furethidine (9626) | I
Hydroxypethidine (9627) | I
Ketobemidone (9628) | I
Levomoramide (9629) | I
Levophenacylmorphan (9631) | I
Morpheridine (9632) | I
Noracymethadol (9633) | I
Norlevorphanol (9634) | I
Normethadone (9635) | I
Norpipanone (9636) | I
Phenadoxone (9637) | I
Phenampromide (9638) | I
Phenoperidine (9641) | I
Piritramide (9642) | I
Proheptazine (9643) | I
Properidine (9644) | I
Racemoramide (9645) | I
Trimeperidine (9646) | I
Phenomorphan (9647) | I
Propiram (9649) | I
1-Methyl-4-phenyl-4-propionoxypiperidine (9661) | I
1-(2-Phenylethyl)-4-phenyl-4acetoxypiperidine (9663) | I
Tilidine (9750) | I
Para-Fluorofentanyl (9812) | I
3-Methylfentanyl (9813) | I
Alpha-Methylfentanyl (9814) | I
Acetyl-alpha-methylfentanyl (9815) | I
Benzylfentanyl (9818) | I
Beta-Hydroxyfentanyl (9830) | I
Beta-Hydroxy-3-methylfentanyl (9831) | I
Alpha-Methylthiofentanyl (9832) | I
3-Methylthiofentanyl (9833) | I
Thenylfentanyl (9834) | I
Thiofentanyl (9835) | I
Amphetamine (1100) | II
Methamphetamine (1105) | II
Phenmetrazine (1631) | II
Methylphenidate (1724) | II
Amobarbital (2125) | II
Pentobarbital (2270) | II
Secobarbital (2315) | II
Glutethimide (2250) | II
Nabilone (7379) | II
1-Phenylcylohexylamine (7460) | II
Phencyclidine (7471) | II
Phenylacetone (8501) | II
1-Piperidinocyclohexanecarbonitrile (8603) | II
Alphaprodine (9010) | II
Anileridine (9020) | II
Cocaine (9041) | II
Codeine (9050) | II
Diprenorphine (9058) | II
Etorphine HCL (9059) | II
Dihydrocodeine (9120) | II
Oxycodone (9143) | II
Hydromorphone (9150) | II
Diphenoxylate (9170) | II
Benzoylecgonine (9180) | II
Ecgonine (9180) | II
Ethylmorphine (9190) | II
Hydrocodone (9193) | II
Levomethorphan (9210) | II
Levorphanol (9220) | II
Isomethadone (9226) | II
Meperidine (9230) | II
Meperidine intermediate-A (9232) | II
Meperidine intermediate-B (9233) | II
Meperidine intermediate-C (9234) | II
Metazocine (9240) | II
Methadone (9250) | II
Methadone intermediate (9254) | II
Metopon (9260) | II
Morphine (9300) | II
Thebaine (9333) | II
Dihydroetorphine (9934) | II
Opium, raw (9600) | II
Opium tincture (9630) | II
Opium powdered (9639) | II
Levo-alphacetylmethadol (9648) | II
Oxymorphone (9652) | II
Phenazocine (9715) | II
Piminodine (9730) | II
Racemethorphan (9732) | II
Racemorphan (9733) | II
Alfentanil (9737) | II
Remifentanil (9739) | II
Sufentanil (9740) | II
Carfentanil (9743) | II
Bezitramide (9800) | II
Fentanyl (9801) | II
Moramide-intermediate (9802) | II

The firm plans to manufacture small quantities of bulk material for use in reference standards.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel, (CCD) and must be filed no later than August 2, 2004.

Dated: May 18, 2004.
William J. Walker,
Deputy Assistant Administrator, Office of Diversion Control, Drug Enforcement Administration.

[FR Doc. 04-12463 Filed 6-2-04; 8:45 am]

BILLING CODE 4410-09-M